DEPARTMENT OF TRANSPORTATION

Federal Aviation Administration

14 CFR Part 39

[Docket No. 2002-NM-158-AD; Amendment 39-13137; AD 2003-09-08]

RIN 2120-AA64

Airworthiness Directives; Boeing Model 767-200, -300, and -300F Series Airplanes

AGENCY: Federal Aviation Administration, DOT.

ACTION: Final rule.

SUMMARY: This amendment supersedes an existing airworthiness directive (AD), applicable to all Boeing Model 767 series airplanes, that currently requires an inspection to ensure that all bolts of the support beam of the hinge fitting assembly on both the left- and right-hand outboard trailing edge flaps are the correct length and type, and correction of any discrepancy found. This amendment reduces the applicability of the existing AD, adds inspections, and mandates terminating action. The actions specified by this AD are intended to prevent failure of the bolts that attach the outboard trailing edge flap to the support beam, which could result in loss of the flap and consequent reduced controllability of the airplane. This action is intended to address the identified unsafe condition.

DATES: Effective June 6, 2003.

The incorporation by reference of certain publications, as listed in the regulations, is approved by the Director of the Federal Register as of June 6, 2003.

The incorporation by reference of Boeing Alert Service Bulletin 767-27A0151, Revision 1, dated April 2, 1997, as listed in the regulations, was approved previously by the Director of the Federal Register as of May 7, 1997 (62 FR 24015, May 2, 1997).

ADDRESSES: The service information referenced in this AD may be obtained from Boeing Commercial Airplane Group, P.O. Box 3707, Seattle, Washington 98124-2207. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Suzanne Masterson, Aerospace Engineer, Airframe Branch, ANM-120S, FAA, Seattle Aircraft Certification Office, 1601 Lind Avenue, SW., Renton, Washington 98055-4056; telephone (425) 917-6441; fax (425) 917-6590.

SUPPLEMENTARY INFORMATION: A proposal to amend part 39 of the Federal Aviation Regulations (14 CFR part 39) by superseding AD 97-08-51, amendment 39-10012 (62 FR 24015, May 2, 1997), which is applicable to all Boeing Model 767 series airplanes, was published in the Federal Register on September 30, 2002 (67 FR 61301). The action proposed to continue to require an inspection to ensure that all bolts of the support beam of the hinge fitting assembly on both the left- and right-hand outboard trailing edge flaps are the correct length and type, and correction of any discrepancy found. The action also proposed to reduce the applicability of the existing AD, add inspections, and mandate terminating action.

Comments

Interested persons have been afforded an opportunity to participate in the making of this amendment. Due consideration has been given to the comments received.

Revise Compliance Time in Paragraph (a)(2)(ii)

One commenter requests that the FAA revise the compliance time stated in paragraph (a)(2)(ii) of the proposed AD from “Within 30 days after May 7, 1997,” to “Within 30 days after the effective date of this AD.” The commenter notes that some airplanes will accumulate 10,000 total flight cycles or 25,000 total flight hours after June 7, 1997, and before the effective date of the new AD. These airplanes would be out of compliance with the proposed AD as of the effective date of the AD.

The FAA does not agree to revise the compliance time specified in paragraph (a)(2)(ii) of this final rule. Paragraph (a) of this final rule is a restatement of paragraph (a) of AD 97-08-51, which this AD supersedes. June 7, 1997, is the effective date of AD 97-08-51. Our intent is that airplanes that are subject to AD 97-08-51 comply with the original requirements of that AD, at the original compliance times. If the airplane is in compliance with AD 97-08-51 as of the effective date of this new AD, then it will not be out of compliance with this AD as of the effective date of this AD.

Relevant to this comment, we agree that we need to clarify the old and new requirements of this AD. The headings that would normally be used in a superseding AD to clearly identify the restated requirements of the existing AD (e.g., “Requirements of AD 97-08-51”) and the new requirements (e.g., “New Requirements of This AD”) were omitted from the proposed AD. We have included these headings in this final rule. For further clarification, we have made the following changes to this final rule:

• We have reidentified paragraphs (c) and (d) of the proposed AD as paragraphs (b) and (c) of this final rule, respectively. (Thus, the existing requirements of AD 97-08-51 are identified with the same paragraph lettering that they have in AD 97-08-51 and are grouped under the heading “Requirements of AD 97-08-51” in this AD.)

• We have reidentified paragraph (b) of the proposed AD (the “Repeat Inspection for Certain Airplanes”) as paragraph (d) of this final rule, to group it with the other new requirements of this AD.

• We have added a new sentence to paragraph (d) of this final rule (paragraph (b) of the proposed AD) to clarify that any necessary corrective actions must be accomplished in accordance with paragraphs (b) and (c) of this AD.

• We have revised paragraph references in paragraphs (e) and (h) of this final rule according to the changes described previously. Paragraph references in paragraph (j)(2) of this final rule (which was included as paragraph (i)(2) of the proposed AD) do not need to be revised in this final rule because the paragraph references in that paragraph of the proposed AD were incorrect, but are correct following the other changes to this final rule.

Give Credit for Action Accomplished Previously

One commenter requests that the FAA give credit for accomplishment of the repeat inspection specified in paragraph (b) of the proposed AD (paragraph (d) of this final rule) in accordance with Boeing Alert Service Bulletin 767-27A0155, Revision 2, dated July 8, 1999. The commenter notes that it has been accomplishing inspections in accordance with that service bulletin since accomplishing the initial inspection required by paragraph (a) of the existing AD.

We concur with the commenter's request. Our intent is that accomplishment of the inspection required by paragraph (f) of this AD or the modification required by paragraph (g) of this AD eliminates the need to accomplish the inspection in paragraph (a) or (d) of this AD, provided that the requirements of paragraph (f) or (g) of this AD are accomplished within the compliance time specified in paragraph (a) or (d) of this AD, as applicable. We have added a new paragraph (h) to this final rule (and redesignated subsequent paragraphs accordingly) to state that airplanes on which paragraph (f) or (g) of this AD is accomplished within the compliance time specified in paragraph (a) or (d) of this AD, as applicable, do not need to be inspected in accordance with paragraph (a) or (d) of this AD.

Extend Compliance Time for Terminating Action

Two commenters request that we extend the compliance time for the terminating action in paragraph (g) of the proposed AD. Paragraph (g) of the proposed AD specified a compliance threshold of 6 years, 25,000 flight hours, or 12,000 flight cycles after accomplishment of paragraph (a) of the proposed AD, whichever is first; and a grace period (for airplanes close to or over the threshold) of 90 days after the effective date of the AD. Both commenters note that most of the airplanes in their fleets will be subject to the 90-day grace period because they have passed the applicable threshold. One of the commenters requests that we extend the compliance time to 18 months after the effective date of the AD, so that the majority of airplanes can be modified during a regularly scheduled “C''-check. The second commenter is concerned about the availability of parts needed to accomplish the terminating action and requests that we extend the compliance time to 5 years after the effective date of the AD.

We agree that the grace period segment of the compliance time for the terminating action in paragraph (g) of this AD may be extended from 90 days to 18 months after the effective date of this AD. In developing an appropriate compliance time for the terminating action, the FAA considered not only the urgency of addressing the subject unsafe condition and the maintenance schedules of affected operators, but also the availability of required parts. The FAA finds that 18 months represents an appropriate interval of time allowable for affected airplanes to continue to operate without compromising safety and wherein an ample number of required parts will be available for modification of the U.S. fleet. (No data were presented to justify that a compliance time longer than 18 months would adequately ensure safety.) Paragraph (g) has been revised accordingly. Also, for clarification, we have revised paragraph (g) of this final rule to move the compliance times from that paragraph into new subparagraphs (g)(1) and (g)(2) of this final rule.

Correct Typographical Errors in Paragraphs (g) and (h)

One commenter notes a typographical error in paragraph (g) of the proposed AD. The word “filters” should be “fillers.” Also, that commenter and a second commenter note that Boeing Alert Service Bulletin 767-27A0155 is misidentified in paragraph (h) of the proposed AD (included as paragraph (i) of this final rule) as Boeing Alert Service Bulletin 767-29A0155. We concur and have corrected these typographical errors in paragraphs (g) and (i) of this final rule.

Explanation of Additional Changes to Proposed AD

We have revised the applicability statement of this AD to clarify that Boeing Model 767-400ER series airplanes are not affected by this AD. The airplanes with line numbers 1 through 710 inclusive are Model 767-200, -300, and “300F series airplanes.

For clarification, we have revised paragraph (f) of this final rule to move the compliance times from that paragraph into new subparagraphs (f)(1) and (f)(2) of this AD.

The Summary section of the proposed AD states that the proposed AD would “mandate terminating action for certain airplanes.” However, this AD mandates terminating action for all airplanes subject to this AD. We have corrected this error in this final rule.

Conclusion

After careful review of the available data, including the comments noted above, the FAA has determined that air safety and the public interest require the adoption of the rule with the changes previously described. The FAA has determined that these changes will neither increase the economic burden on any operator nor increase the scope of the AD.

Cost Impact

There are approximately 700 Model 767 series airplanes of the affected design in the worldwide fleet. The FAA estimates that 287 airplanes of U.S. registry will be affected by this AD.

The actions that are currently required by AD 97-08-51 take approximately 7 work hours per airplane to accomplish, at an average labor rate of $60 per work hour. Based on these figures, the cost impact of the currently required actions on U.S. operators is estimated to be $120,540, or $420 per airplane.

The torque check that is required by this AD action will take approximately 2 work hours per airplane to accomplish, at an average labor rate of $60 per work hour. Based on these figures, the cost impact of the torque check required by this AD on U.S. operators is estimated to be $34,440, or $120 per airplane, per check.

The terminating action that is required by this AD action will take approximately 3 work hours per airplane to accomplish, at an average labor rate of $60 per work hour. Required parts will cost approximately $3,058 per airplane. Based on these figures, the cost impact of the terminating action required by this AD on U.S. operators is estimated to be $929,306, or $3,238 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10012 (62 FR 24015, May 2, 1997), and by adding a new airworthiness directive (AD), amendment 39-13137, to read as follows:

2003-09-08 Boeing: Amendment 39-13137. Docket 2002-NM-158-AD. Supersedes AD 97-08-51, Amendment 39-10012.

Applicability: Model 767-200, -300, and -300F series airplanes; line numbers 1 through 710 inclusive; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (j)(1) of this AD. The request should include an assessment of the effect of the modification, alteration, or repair on the unsafe condition addressed by this AD; and, if the unsafe condition has not been eliminated, the request should include specific proposed actions to address it.

Compliance: Required as indicated, unless accomplished previously.

To prevent failure of the bolts that attach the outboard trailing edge flap to the support beam, which could result in loss of the flap and consequent reduced controllability of the airplane, accomplish the following:

Requirements of AD 97-08-51

Inspection

(a) Perform an inspection to check the bolt torque, bolt length, and type of all bolts of both hinge fittings on the left- and right-hand outboard trailing edge flaps, in accordance with Boeing Alert Service Bulletin 767-27A0151, Revision 1, dated April 2, 1997; or Revision 4, excluding Evaluation Form, dated August 27, 1998. Perform these inspections at the time specified in paragraph (a)(1) or (a)(2) of this AD, as applicable.

(1) For airplanes that accumulated 15,000 or more total flight cycles, or 37,500 or more total flight hours, as of May 7, 1997 (the effective date of AD 97-08-51, amendment 39-10012): Perform the inspection within 15 days after May 7, 1997.

(2) For all other airplanes: Perform the inspection at the later of the times specified in paragraphs (a)(2)(i) and (a)(2)(ii) of this AD.

(i) Prior to the accumulation of 10,000 total flight cycles, or 25,000 total flight hours, whichever occurs first.

(ii) Within 30 days after May 7, 1997.

Corrective Actions

(b) If any bolt of the hinge fittings of the left- and right-hand outboard trailing edge flaps is below the torque check threshold specified in Boeing Alert Service Bulletin 767-27A0151, Revision 1, dated April 2, 1997; or Revision 4, excluding Evaluation Form, dated August 27, 1998: Prior to further flight, accomplish the actions specified in paragraph (b)(1) or (b)(2) of this AD, in accordance with the alert service bulletin.

(1) Perform a dye penetrant inspection of all the bolts of the hinge fitting to detect any cracking or discrepancy.

(i) If no cracking or discrepancy is detected, prior to further flight, reinstall the bolt using new nuts and washers.

(ii) If any cracking or discrepancy is detected, prior to further flight, replace the cracked or discrepant bolt with a new or serviceable bolt.

(2) Replace all of the bolts of both hinge fittings with new or serviceable bolts.

(c) If the length or type of any bolt of the hinge fittings of the left- and right-hand outboard trailing edge flaps is outside the specifications of Boeing Alert Service Bulletin 767-27A0151, Revision 1, dated April 2, 1997; or Revision 4, excluding Evaluation Form, dated August 27, 1998: Prior to further flight, replace the bolt with a new or serviceable bolt in accordance with the alert service bulletin.

New Requirements of This AD

Repeat Inspection for Certain Airplanes

(d) For airplanes on which the inspection required by paragraph (a) of this AD was accomplished prior to the accumulation of 5,000 total flight cycles or 12,500 total flight hours: Repeat the inspection required by paragraph (a) of this AD one time within 120 days after the effective date of this AD. Perform corrective actions, as applicable, in accordance with paragraphs (b) and (c) of this AD.

Credit for Actions Accomplished per Previous Revisions of Service Bulletin

(e) Accomplishment of the actions specified in paragraphs (a), (b), and (c) of this AD, in accordance with Boeing Alert Service Bulletin 767-27A0151, dated April 1, 1997; Revision 2, dated April 10, 1997; or Revision 3, dated July 7, 1997; before the effective date of this AD; is considered acceptable for compliance with the applicable requirements of this AD.

Repetitive Inspections

(f) At the later of the times specified in paragraphs (f)(1) and (f)(2) of this AD, perform an inspection to check the bolt torque of both hinge fittings on the left- and right-hand outboard trailing edge flaps, and retorque if applicable, in accordance with Boeing Service Bulletin 767-27A0155, Revision 2, excluding Evaluation Form, dated July 8, 1999. Repeat the inspection every 3 years, 12,500 flight hours, or 6,000 flight cycles, whichever is first, until paragraph (g) of this AD has been accomplished.

(1) Within 3 years, 12,500 flight hours, or 6,000 flight cycles after accomplishment of paragraph (a) of this AD, whichever is first.

(2) Within 90 days after the effective date of this AD.

Terminating Action

(g) At the later of the times specified in paragraphs (g)(1) and (g)(2) of this AD, perform the terminating action (including replacement of the six titanium bolts in each flap support fitting with steel bolts and self-aligning washers, and installation of radius fillers at the four aft bolt locations), in accordance with Part 2 of the Accomplishment Instructions of Boeing Service Bulletin 767-27A0155, Revision 2, excluding Evaluation Form, dated July 8, 1999. Accomplishment of this paragraph ends the repetitive inspections required by paragraph (f) of this AD.

(1) Within 6 years, 25,000 flight hours, or 12,000 flight cycles after accomplishment of paragraph (a) of this AD, whichever is first.

(2) Within 18 months after the effective date of this AD.

(h) Airplanes on which the inspection required by paragraph (f) of this AD or the terminating action required by paragraph (g) of this AD is accomplished within the compliance time specified in paragraph (a) or (d) of this AD, as applicable, are not required to accomplish the inspection required by paragraph (a) or (d) of this AD, as applicable.

Credit for Actions Accomplished per Previous Revisions of Service Bulletin

(i) Accomplishment of the actions specified in paragraphs (f) and/or (g) of this AD in accordance with Boeing Alert Service Bulletin 767-27A0155, dated August 27, 1998; or Revision 1, dated December 22, 1998; before the effective date of this AD; is considered acceptable for compliance with the applicable requirements of this AD.

Alternative Methods of Compliance

(j)(1) An alternative method of compliance or adjustment of the compliance time that provides an acceptable level of safety may be used if approved by the Manager, Seattle Aircraft Certification Office (ACO), FAA. Operators shall submit their requests through an appropriate FAA Principal Maintenance Inspector, who may add comments and then send it to the Manager, Seattle ACO.

(2) Alternative methods of compliance, approved previously in accordance with AD 97-08-51, amendment 39-10012, are approved as alternative methods of compliance with paragraphs (a), (b), and (c) of this AD.

Note 2: Information concerning the existence of approved alternative methods of compliance with this AD, if any, may be obtained from the Seattle ACO.

Special Flight Permits

(k) Special flight permits may be issued in accordance with sections 21.197 and 21.199 of the Federal Aviation Regulations (14 CFR 21.197 and 21.199) to operate the airplane to a location where the requirements of this AD can be accomplished.

Incorporation by Reference

(l) Unless otherwise specified in this AD, the actions shall be done in accordance with Boeing Alert Service Bulletin 767-27A0151, Revision 1, dated April 2, 1997, or Boeing Alert Service Bulletin 767-27A0151, Revision 4, excluding Evaluation Form, dated August 27, 1998; and Boeing Service Bulletin 767-27A0155, Revision 2, excluding Evaluation Form, dated July 8, 1999; as applicable.

(1) The incorporation by reference of Boeing Alert Service Bulletin 767-27A0151, Revision 4, excluding Evaluation Form, dated August 27, 1998; and Boeing Service Bulletin 767-27A0155, Revision 2, excluding Evaluation Form, dated July 8, 1999; is approved by the Director of the Federal Register in accordance with 5 U.S.C. 552(a) and 1 CFR part 51.

(2) The incorporation by reference of Boeing Alert Service Bulletin 767-27A0151, Revision 1, dated April 2, 1997, was approved previously by the Director of the Federal Register as of May 7, 1997 (62 FR 24015, May 2, 1997).

(3) Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(m) This amendment becomes effective on June 6, 2003.

Issued in Renton, Washington, on April 23, 2003.
Ali Bahrami,
Acting Manager, Transport Airplane Directorate, Aircraft Certification Service.

[FR Doc. 03-10511 Filed 5-1-03; 8:45 am]

BILLING CODE 4910-13-P